DEPARTMENT OF TRANSPORTATION

Federal Aviation Administration

14 CFR Part 39

[Docket No. 2003-NM-58-AD; Amendment 39-13548; AD 2004-07-04]

RIN 2120-AA64

Airworthiness Directives; McDonnell Douglas Model DC-9-14, DC-9-15, DC-9-15F, DC-9-31, DC-9-32, DC-9-32 (VC-9C), DC-9-32F, DC-9-32F (C-9A, C-9B), DC-9-33F, DC-9-34, and DC-9-34F Airplanes; and Model DC-9-21, DC-9-41, and DC-9-51 Series Airplanes

AGENCY: Federal Aviation Administration, DOT.

ACTION: Final rule.

SUMMARY: This amendment supersedes an existing airworthiness directive (AD), applicable to certain McDonnell Douglas Model DC-9 series airplanes, that currently requires replacing the transformer ballast assembly in the pilot's console with a new, improved ballast assembly. This amendment expands the applicability of the existing AD to include additional airplanes and provides an optional method for accomplishing the requirements of the existing AD. The actions specified by this AD are intended to prevent overheating of the ballast transformers due to aging fluorescent tubes that cause a higher power demand on the ballast transformers, which could result in smoke in the cockpit. This action is intended to address the identified unsafe condition.

DATES: Effective May 5, 2004.

The incorporation by reference of a certain publication, as listed in the regulations, is approved by the Director of the Federal Register as of May 5, 2004.

The incorporation by reference of a certain other publication, as listed in the regulations, was approved previously by the Director of the Federal Register as of February 8, 2002 (67 FR 497, January 4, 2002).

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Elvin K. Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) by superseding AD 2001-26-24, amendment 39-12590 (67 FR 497, January 4, 2002), which is applicable to certain McDonnell Douglas Model DC-9 series airplanes, was published in the Federal Register on December 8, 2003 (68 FR 68304). The action proposed to continue to require replacing the transformer ballast assembly in the pilot's console with a new, improved ballast assembly. The action also proposed to expand the applicability of the existing AD to include additional airplanes. In addition, the action proposed to provide an optional method for accomplishing the requirements of the existing AD.

Comments

Interested persons have been afforded an opportunity to participate in the making of this amendment. No comments were submitted in response to the proposal or the FAA's determination of the cost to the public.

Explanation of Change to Proposed AD

The FAA has revised the applicability of the proposed AD to specify certain model designations (Model DC-9-21, -41, and -51) as published in the most recent type certificate data sheet for the affected models. These model designations are identical to those specified in the referenced service bulletin.

We have also revised the applicability of the proposed AD to correct a typographical error that resulted in a duplicate reference to Model DC-9-33F instead of Model DC-9-32F. We intended the applicability of the proposed AD to include the same Model airplanes as those listed in Boeing Alert Service Bulletin DC9-33A114, Revision 03, dated January 16, 2003, which was cited in the applicability statement of the proposed AD for determining the specific affected airplanes. Therefore, we have revised references to the applicability throughout the final rule to include Model DC-9-32F airplanes.

Conclusion

After careful review of the available data, the FAA has determined that air safety and the public interest require the adoption of the rule with the changes previously described. The FAA has determined that these changes will neither increase the economic burden on any operator nor increase the scope of the AD.

Cost Impact

There are approximately 575 airplanes of the affected design in the worldwide fleet. The FAA estimates that 477 airplanes of U.S. registry will be affected by this AD.

The replacement that is currently required by AD 2001-26-24 and provided as an option in this AD takes approximately 1 work hour per airplane to accomplish, at an average labor rate of $65 per work hour. Required parts cost approximately between $1,379 and $1,860 per airplane. Based on these figures, the cost impact of the replacement on U.S. operators is estimated to be between $688,788 and $918,225, or between $1,444 and $1,925 per airplane.

The new optional modification that is provided by this AD will take approximately 2 work hours per airplane to accomplish, at an average labor rate of $65 per work hour. Required parts will cost approximately $4,472 per airplane. Based on these figures, the cost impact of the new optional modification provided by this AD on U.S. operators is estimated to be $4,602 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12590 (67 FR 497, January 4, 2002), and by adding a new airworthiness directive (AD), amendment 39-13548, to read as follows:

2004-07-04 McDonnell Douglas: Amendment 39-13548. Docket 2003-NM-58-AD. Supersedes AD 2001-26-24, Amendment 39-12590.

Applicability: Model DC-9-14, DC-9-15, DC-9-15F, DC-9-31, DC-9-32, DC-9-32 (VC-9C), DC-9-32F, DC-9-32F (C-9A, C-9B), DC-9-33F, DC-9-34, and DC-9-34F airplanes; and Model DC-9-21, DC-9-41, and DC-9-51 series airplanes; as listed in Boeing Alert Service Bulletin DC9-33A114, Revision 03, dated January 16, 2003; certificated in any category.

Compliance: Required as indicated, unless accomplished previously.

To prevent overheating of the ballast transformers due to aging fluorescent tubes that cause a higher power demand on the ballast transformers, which could result in smoke in the cockpit, accomplish the following:

Replacement or Modification

(a) Replace the transformer ballast assembly from the pilot's console with a new, improved ballast assembly per the Work Instructions in McDonnell Douglas Alert Service Bulletin DC9-33A114, Revision 01, dated February 15, 2000; or the Accomplishment Instructions in Boeing Alert Service Bulletin DC9-33A114, Revision 03, dated January 16, 2003; or modify the existing ballast transformer assembly per the Accomplishment Instructions in Boeing Alert Service Bulletin DC9-33A114, Revision 03, dated January 16, 2003; at the applicable time specified in paragraph (a)(1) or (a)(2) of this AD.

Note 1: Boeing Alert Service Bulletin DC9-33A114, Revision 03, refers to Elektronika, Inc. Product Improvement Service Bulletin 33-EKA0199-BPC, Revision D, dated November 25, 2002, as an additional source of service information for accomplishment of the modification of the transformer ballast assembly for McDonnell Douglas Model DC-9 series airplanes.

(1) For airplanes listed in McDonnell Douglas Alert Service Bulletin DC9-33A114, Revision 01, dated February 15, 2000: Within 12 months after February 8, 2002 (the effective date of AD 2001-26-24, amendment 39-12590).

(2) For airplanes having fuselage numbers 1039 and 1046: Within 12 months after the effective date of this AD.

Parts Installation

(b) As of the effective date of this AD, no person shall install a transformer assembly, part number BA170-1, -11, -21, or -MOD.B, on any airplane.

Prior Replacements

(c) Replacements accomplished before the effective date of this AD per McDonnell Douglas Alert Service Bulletin DC9-33A114, Revision 02, dated March 19, 2002, are considered acceptable for compliance with the corresponding action specified in this AD.

Alternative Methods of Compliance

(d)(1) In accordance with 14 CFR 39.19, the Manager, Los Angeles Aircraft Certification Office (ACO), FAA, is authorized to approve alternative methods of compliance (AMOCs) for this AD.

(2) Alternative methods of compliance, approved previously per AD 2001-26-24, amendment 39-12590, are approved as alternative methods of compliance with this AD.

Incorporation by Reference

(e) Unless otherwise provided in this AD, the actions shall be done in accordance with McDonnell Douglas Alert Service Bulletin DC9-33A114, Revision 01, dated February 15, 2000; or Boeing Alert Service Bulletin DC9-33A114, Revision 03, dated January 16, 2003; as applicable.

(1) The incorporation by reference of Boeing Alert Service Bulletin DC9-33A114, Revision 03, dated January 16, 2003, is approved by the Director of the Federal Register in accordance with 5 U.S.C. 552(a) and 1 CFR part 51.

(2) The incorporation by reference of McDonnell Douglas Alert Service Bulletin DC9-33A114, Revision 01, dated February 15, 2000, was approved previously by the Director of the Federal Register as of February 8, 2002 (67 FR 497, January 4, 2002).

(3) Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on May 5, 2004.

Issued in Renton, Washington, on March 22, 2004.
Kevin M. Mullin,
Acting Manager, Transport Airplane Directorate, Aircraft Certification Service.

[FR Doc. 04-6956 Filed 3-30-04; 8:45 am]

BILLING CODE 4910-13-P